INTERNATIONAL TRADE COMMISSION

[USITC SE-14-038]

Sunshine Act Meetings

AGENCY HOLDING THE MEETING: United States International Trade Commission.

TIME AND DATE: November 12, 2014 at 9:30 a.m.

PLACE: Room 101, 500 E Street SW., Washington, DC 20436, Telephone: (202) 205-2000.

STATUS: Open to the public.

MATTERS TO BE CONSIDERED: 1. Agendas for future meetings: none.

2. Minutes.

3. Ratification List.

4. Vote in Inv. Nos. 701-TA-509 and 731-TA-1244 (Final) (1,1,1,2-Tetrafluoroethane (“R-134a”) from China). The Commission is currently scheduled to complete and file its determinations and views of the Commission on November 24, 2014.

5. Outstanding action jackets: none.

In accordance with Commission policy, subject matter listed above, not disposed of at the scheduled meeting, may be carried over to the agenda of the following meeting.

By order of the Commission.
Issued: November 3, 2014.
William R. Bishop
Supervisory Hearings and Information Officer.

[FR Doc. 2014-26470 Filed 11-4-14; 11:15 am]

BILLING CODE 7020-02-P